DEPARTMENT OF AGRICULTURE

Commodity Credit Corporation

Request for Revision and Extension of a Currently Approved Information Collection

AGENCY: Commodity Credit Corporation, USDA.

ACTION: Notice and request for comments.

SUMMARY: In accordance with the Paperwork Reduction Act of 1995, this notice announces the Commodity Credit Corporation's (CCC) intention to request an extension and revision for a currently approved information collection. This information collection is used in support of the Environmental Quality Incentives Program (EQIP) which offers flexible assistance to counter serious threats to soil, water, grazing lands, wetlands, and wildlife habitat and, also, to address natural resource concerns, such as nonpoint source pollution, water quality protection or improvement, and wetland restoration, protection, and creation, as authorized by the Food Security Act of 1985 (the 1985 Act).

DATES: Comments on this notice must be received on or before August 8, 2000 to be assured consideration.

ADDITIONAL INFORMATION OR COMMENTS: Contact Ilka Gray, Agricultural Program Specialist, USDA, FSA, CEPD, STOP 0513, 1400 Independence Avenue, SW., Washington, DC 20250-0513; telephone (202) 690-0794; e-mail Ilka_Gray@wdc.fsa.usda.gov; or facsimile (202) 720-4619.

SUPPLEMENTARY INFORMATION: Title: CCC Conservation Contract.

OMB Control Number: 0560-0174.

Expiration Date of Approval: December 31, 2000.

Type of Request: Extension and revision of a currently approved information collection.

Abstract: The 1985 Act authorized the EQIP to assist farmers and ranchers in solving natural resource related problems on agricultural land. The information is necessary to ensure the integrity of the program and to ensure that only eligible producers are authorized contracts.

Producers requesting cost-share or incentive payments from the Commodity Credit Corporation must provide specific data related to the conservation payment request. Forms included in this information collection package require farm and tract numbers, conservation practice or benefits requested, major resource concerns, and similar information, in order to determine eligibility. Producers must also agree to the terms and conditions contained in the conservation contract. Without the collection of this information, CCC cannot ensure the integrity of CCC conservation programs.

Estimate of Respondent Burden: Public reporting burden for this collection of information is estimated to average .23 hours per response.

Respondents: Individuals producers, partnerships, corporations, tribal members, or other eligible agricultural producers.

Estimated Number of Respondents: 80,000.

Estimated Number of Annual Responses per Respondent: 2.

Estimated Total Annual Burden on Respondents: 1.53 hrs.

Proposed topics for comment include: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology. Comments must be sent to the Desk Officer for Agriculture, Office of Information and Regulatory Affairs, Office of Management and Budget, Washington, DC 20503, and to Ilka Gray, Agricultural Program Specialist, USDA-FSA-CEPD, STOP 0513, 1400 Independence Avenue, SW., Washington, DC 20250-0513; telephone (202) 690-0794; e-mail Ilka_Gray@wdc.fsa.usda.gov; or facsimile (202) 720-4619. Copies of the information collection may be obtained from Mrs. Gray at the above address.

OMB is required to make a decision concerning the collection of information contained in these proposed regulations between 30 and 60 days after publication of this document in the Federal Register. Therefore, a comment to OMB is best assured of having its full effect if OMB receives in within 30 days of publication.

All responses to this notice will be summarized and included in the request for OMB approval. All comments will also become a matter of public record.

Parks Shackelford,
Acting Executive Vice President, Commodity Credit Corporation.

[FR Doc. 00-14573 Filed 6-8-00; 8:45 am]

BILLING CODE 3410-05-P